SMALL BUSINESS ADMINISTRATION

[Declaration of Disaster #3608]

State of West Virginia

As a result of the President's major disaster declaration on August 6, 2004, I find that Fayette, Lincoln, and Logan Counties in the State of West Virginia constitute a disaster area due to damages caused by severe storms, flooding, and landslides occurring on July 22, 2004, and continuing. Applications for loans for physical damage as a result of this disaster may be filed until the close of business on October 5, 2004, and for economic injury until the close of business on May 6, 2005, at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Boone, Cabell, Clay, Greenbrier, Kanawha, Mingo, Nicholas, Putnam, Raleigh, Summers, Wayne, and Wyoming in the State of West Virginia.

The interest rates are:

| Percent
For Physical Damage:
Homeowners with Credit Available Elsewhere | 6.375
Homeowners Without Credit Available Elsewhere | 3.187
Businesses With Credit Available Elsewhere | 5.800
Businesses and Non-Profit Organizations Without Credit Available Elsewhere | 2.900
Others (Including Non-Profit Organizations) With Credit Available Elsewhere | 4.875
For Economic Injury:
Businesses and Small Agricultural Cooperatives Without Credit Available Elsewhere | 2.900

The number assigned to this disaster for physical damage is 360806. For economic injury the number is 9ZO200.

(Catalog of Federal Domestic Assistance Program Nos. 59002 and 59008.)
Dated: August 6, 2004.
Jane M. Pease,
Acting Associate Administrator for Disaster Assistance.

[FR Doc. 04-18697 Filed 8-13-04; 8:45 am]

BILLING CODE 8025-01-P